INTERNATIONAL TRADE COMMISSION

Sunshine Act Meeting

TIME AND DATE: March 3, 2000 at 11 a.m.

PLACE: Room 101, 500 E Street S.W., Washington, DC 20436; Telephone: (202) 205-2000.

STATUS: Closed to the public.

AGENDA ITEM TO BE CLOSED:

#5: Outstanding action jackets:

(1.) Document No. (E)GC-00-001: Administrative matters.

Pursuant to 5 U.S.C. 552b(c) and Commission rule 19 C.F.R. § 201.36(b), the Commission has unanimously determined to close a portion of the meeting of Friday, March 3, 2000, to public observation, in order to avoid disclosure of information of a personal nature which would constitute a clearly unwarranted invasion of personal privacy. The General Counsel has certified that a portion of the meeting is being properly closed to the public by the Commission. Persons permitted to attend this closed portion of the meeting include Commissioners, their staff, and other Commission personnel who need to be available for the discussion or to conduct the meeting.

Issued: February 28, 2000.
By order of the Commission.
Donna R. Koehnke,
Secretary.

[FR Doc. 00-5172 Filed 2-29-00; 2:25 pm]

BILLING CODE 7020-02-M